DEPARTMENT OF TRANSPORTATION

Federal Aviation Administration

14 CFR Part 39

[Docket No. FAA-2010-1190; Directorate Identifier 2010-SW-038-AD; Amendment 39-16877; AD 2011-25-01]

RIN 2120-AA64

Airworthiness Directives; Apical Industries, Inc., (Apical) Emergency Float Kits

AGENCY: Federal Aviation Administration, DOT.

ACTION: Final rule.

SUMMARY: This amendment adopts a new airworthiness directive (AD) for the Apical emergency float kits installed on certain model helicopters under supplemental type certificates. This AD requires adding placards on each side of the fuselage to identify the location and operation of the liferaft external inflation handle. This AD also requires replacing each liferaft operation placard to state that external liferafts are installed. This amendment is prompted by a report of a helicopter that crashed into the water, and the pilot did not deploy the floats and liferafts. Two external T-handles were available for deployment of the liferafts but were not used by the passengers because they were unaware of their location. The actions specified by this AD are intended to prevent helicopter occupants from further injury due to unnecessary exposure to harsh water conditions and to aid in deploying liferafts when liferafts are available on the helicopter and can be activated after a water landing.

DATES: Effective January 17, 2012.

The incorporation by reference of certain publications listed in the regulations is approved by the Director of the Federal Register as of January 17, 2012.

ADDRESSES: You may get the service information identified in this AD from Apical Industries, Inc., 2608 Temple Heights Drive, Oceanside, California 92056-3512, telephone (760) 724-5300, fax (760) 758-9612, http://www.apicalindustries.com/.

Examining the Docket: You may examine the docket that contains this AD, any comments, and other information on the Internet at http://www.regulations.gov or at the Docket Operations office, West Building Ground Floor, Room W12-140, 1200 New Jersey Avenue SE., Washington, DC.

FOR FURTHER INFORMATION CONTACT: Venessa Stiger, Aviation Safety Engineer, FAA, Los Angeles Aircraft Certification Office, 3960 Paramount Blvd., Lakewood, California 90712-4137, telephone (562) 627-5337, fax (562) 627-5210.

SUPPLEMENTARY INFORMATION: A proposal to amend 14 CFR part 39 to include an AD for helicopters modified in accordance with certain supplemental type certificates with certain emergency float kits, was published in the Federal Register on December 7, 2010 (75 FR 75934). That action proposed to require, for certain model helicopters modified per Supplemental Type Certificate Number SR01535LA, SR01779LA, SR01813LA, SR01855LA, or SR00856LA, adding an external placard near the external T-Handles to provide instructions for the operation of the liferaft external inflation handle. That action also proposed to require replacing earlier installed liferaft operation placards with more recent placards.

We provided the public the opportunity to participate in developing this AD. We received no comments on the proposal or on the determination of the cost to the public.

We estimate that this AD will affect 324 helicopters of U.S. registry, and it will take about ½ work hour per helicopter to install 4 or 6 placards at an average labor rate of $85 per work hour. Required parts will cost about $70 per helicopter. Based on these figures, we estimate the total cost impact of this AD on U.S. operators is $36,450 for the entire fleet.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new AD:

2011-25-01 Apical Industries, Inc.: Docket No. FAA-2010-1190; Directorate Identifier 2010-SW-038-AD.

Applicability: The helicopter models, certificated in any category, with an Emergency Float Kit with a part number (P/N) and serial number (S/N), installed by a supplemental type certificate (STC), as follows:

Kit P/N | Kit S/N | Affected helicopter model | STC No.
614.3001 | 080 and below | Bell Helicopter Textron (Bell) 407 | SR01535LA
614.3003 | 133 and below | Bell 206L, L-1, L-3, and L-4 | SR01535LA
614.3007 | 014 and below | Bell 206A and B | SR01535LA
614.7601 | 045 and below | Bell 210, 212, 412, 412CF, 412EP, AB412, and AB412EP | SR01779LA
634.2901 | 012 and below | Bell 427 | SR01813LA
644.1801 | 031 and below | Eurocopter Deutschland Gmbh (Eurocopter) EC135 | SR01855LA
20430-300 | 009 and below | Eurocopter BO-105A, C, S, LS A-1 and LS A-3 | SR00856LA

Compliance: Within 180 days, unless accomplished previously.

To install placards to aid in locating and deploying liferafts to prevent further injury or loss of life in the event of a helicopter landing in the water, do the following:

(a) Install the Liferaft External Inflation Handle Placard, P/N 600.0897, shown in Figure 1 of Apical Industries Inc. Alert Service Bulletin SB2008-01, Revision A, dated March 3, 2010 (ASB), on the crosstubes or fuselage near the external T-Handles, as shown for two model helicopters in Figures 2 and 3, by following the Accomplishment Instructions, 1.0, paragraphs 1 through 5, of the ASB.

(b) Remove the Liferaft Operation Placard, P/N 634.9703, Revision N/C through B, as shown in Figure 4 of the ASB, and install Liferaft Operation Placard, P/N 634.9703, Revision C, as shown in Figure 5, above all aircraft exits, inside the aircraft in plain view.

(c) To request a different method of compliance or a different compliance time for this AD, follow the procedures in 14 CFR 39.19. Contact the Manager, Los Angeles Aircraft Certification Office, FAA, ATTN: Venessa Stiger, Aviation Safety Engineer, 3960 Paramount Blvd., Lakewood, California 90712-4137, telephone (562) 627-5337, fax (562) 627-5210, for information about previously approved alternative methods of compliance.

(d) The Joint Aircraft System/Component (JASC) Codes are 2564: Liferaft and 3212: Emergency Flotation Section.

(e) The modification shall be done in accordance with the specified portions of Apical Industries Inc. Alert Service Bulletin SB2008-01, Revision A, dated March 3, 2010. The Director of the Federal Register approved this incorporation by reference in accordance with 5 U.S.C. 552(a) and 1 CFR part 51. Copies may be obtained from Apical Industries, Inc., 2608 Temple Heights Drive, Oceanside, California 92056-3512, telephone (760) 724-5300, fax (760) 758-9612, http://www.apicalindustries.com/. Copies may be inspected at the FAA, Office of the Regional Counsel, Southwest Region, 2601 Meacham Blvd., Fort Worth, Texas 76137 or at the National Archives and Records Administration (NARA). For information on the availability of this material at NARA, call (202) 741-6030, or go to: http://www.archives.gov/federal_register/code_of_federal_regulations/ibr_locations.html.

(f) This amendment becomes effective on January 17, 2012.

Issued in Fort Worth, Texas, on November 18, 2011.
Lance T. Gant,
Acting Manger, Rotorcraft Directorate, Aircraft Certification Service.

[FR Doc. 2011-30925 Filed 12-12-11; 8:45 am]

BILLING CODE 4910-13-P